DEPARTMENT OF JUSTICE

[OMB Number 1124-0005]

Agency Information Collection Activities: Proposed Collection; Comments Requested

ACTION: 30-Day Notice of Information Collection Under Review: Short-Form Registration Statement (Foreign Agents).

The Department of Justice (DOJ), National Security Division (NSD) will be submitting the following information collection request to the Office of Management and Budget (OMB) for review and approval in accordance with the Paperwork Reduction Act of 1995. The proposed information collection is published to obtain comments from the public and affected agencies. This proposed information collection was previously published in the Federal Register Volume 75, Number 147, pages 45153-45154 on August 2, 2010, allowing for a 60 day comment period.

The purpose of this notice is to allow for an additional 30 days for public comment until November 4, 2010. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-5806.

—Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of currently approved collection.

(2) Title of the Form/Collection: Short-Form Registration Statement (Foreign Agents).

(3) Agency form number, if any, and the applicable component of the Department of Justice sponsoring the collection: Form Number: NSD-6. National Security Division, U.S. Department of Justice. Pursuant to Section 212 of Public Law 110-81, the Honest Leadership and Open Government Act of 2007 (HLOGA), the FARA registration forms recently submitted to OMB for 3 year renewal approvals, contain fillable-fileable, and E-signature capabilities, and the E-Filing system under development and near completion will permit registrants to file their registration forms electronically to the FARA Registration Unit, 24 hours a day, seven days a week. FARA E-Filing will be accessed via the FARA public Web site located at http://www.fara.gov/ and will provide instruction to assist registrants in completing, signing and submitting the forms, as well as instruction on how to electronically pay the required registration filing fees via online credit or debit card payments.

(4) Affected public who will be asked or required to respond, as well as a brief abstract: Primary: Business or other for-profit, Not-for-profit institutions, and individuals or households. Abstract: The form is used to register foreign agents as required under the provisions of the Foreign Agents Registration Act of 1938, as amended, 22 U.S.C. 611, et seq. Rule 202 of the Act requires that a partner, officer, director, associate, employee and agent of a registrant who engages directly in activity in furtherance of the interests of the foreign principal, in other than a clerical, secretarial, or in a related or similar capacity, file a short-form registration statement.

(5) An estimate of the total number of respondents and the amount of time estimated for an average response: The estimated total number of respondents is 523 who will complete a response within .429 hours (25 minutes).

(6) An estimate of the total burden (in hours) associated with the collection: The estimated total public burden associated with this information collection is 224 hours annually.

If additional information is required contact: Lynn Murray, Department Clearance Officer, United States Department of Justice, Policy and Planning Staff, Justice Management Division, Suite 2E-502, Two Constitution Square, 145 N Street, NE., Washington, DC 20530.

Dated: September 29, 2010.
Lynn Murray,
Department Clearance Officer, PRA, United States Department of Justice.

[FR Doc. 2010-24872 Filed 10-4-10; 8:45 am]

BILLING CODE 4410-PF-P